FEDERAL COMMUNICATIONS COMMISSION

Notice of Public Information Collection(s) Being Reviewed by the Federal Communications Commission for Extension Under Delegated Authority, Comments Requested

May 1, 2001.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 9, 2001. If you anticipate that you will be submitting comments, but find it difficult to do so within the period of time allowed by this notice, you should advise the contact listed below as soon as possible.

ADDRESS: Direct all comments to Les Smith, Federal Communications Commissions, Room 1A-804, 445 Twelfth Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0166.

Title: Part 42—Preservation of Records of Communication Common Carriers.

Form No.: N/A.

Type of Review: Extension.

Respondents: Business or Other for Profit.

Number of Respondents: 68.

Estimated Time Per Response: 2 hours per response (avg).

Total Annual Burden: 136 hours.

Estimated Annual Reporting and Recordkeeping Cost Burden: $0.

Frequency of Response: On occasion; Recordkeeping.

Needs and Uses: Section 220 of the Communications Act of 1934, as amended, makes it unlawful for carriers to willfully destroy information retained for the Commission. 47 U.S.C. part 42 prescribes guidelines to ensure that carriers maintain the necessary records needed by the FCC for its regulatory obligations. The requirements are necessary to ensure the availability of carrier records needed by Commission staff for regulatory purposes.

OMB Control No.: 3060-0149.

Title: Application and Supplemental Information Requirements—Part 63, Section 214, and Sections 63.01-63.601.

Form No.: N/A.

Type of Review: Extension.

Respondents: Business or Other for Profit.

Number of Respondents: 255.

Estimated Time Per Response: 10 hours per response (avg).

Total Annual Burden: 2550 hours.

Estimated Annual Reporting and Recordkeeping Cost Burden: $0.

Frequency of Response: On occasion; Third Party Disclosure.

Needs and Uses: Section 214 of the Communications Act of 1934, as amended, requires that the FCC review the establishment, lease, operations, and extension of channels of communications by interstate common carriers. 47 CFR part 63 implements section 214. Part 63 also implements provisions of the Cable Communications Policy Act of 1984 pertaining to video programming by telephone common carriers. The information received in applications from dominant carriers is used to determine if the facilities are needed. The information received from non-dominant carriers is used to monitor the growth of the networks and the availability of common carrier services.

OMB Control No.: 3060-0814.

Title: Section 54.301, Local Switching Support and Local Switching Support Data Collection Form and Instructions.

Form No.: N/A.

Type of Review: Extension.

Respondents: Business or Other for Profit.

Number of Respondents: 192.

Estimated Time Per Response: 21.55 hours per response (avg).

Total Annual Burden: 4138 hours.

Estimated Annual Reporting and Recordkeeping Cost Burden: $0.

Frequency of Response: On occasion; Annually.

Needs and Uses: Pursuant to 47 CFR Section 54.301, each incumbent local exchange carrier that is not a member of the NECA common line tariff, that has been designated an eligible telecommunications carriers, and that serves a study area with 50,000 or fewer access lines shall, for each study area, provide the Administrator with the projected total unseparated dollar amount assigned to each account in section 54.301(b). Average schedule companies are required to file information pursuant to 47 CFR Section 54.301(f). Both respondents must provide true-up data. The data is necessary to calculate certain revenue requirement.

OMB Control No.: 3060-0736.

Title: Implementation of the Non-Accounting Safeguards of Section 271 and 272 of the Communications Act of 1934, as amended, CC Docket No. 96-149.

Form No.: N/A.

Type of Review: Extension.

Respondents: Business or Other for Profit.

Number of Respondents: 5.

Estimated Time Per Response: 60.6 hours per response (avg).

Total Annual Burden: 303 hours.

Estimated Annual Reporting and Recordkeeping Cost Burden: $0.

Frequency of Response: On occasion; Monthly; Annually; Third Party Disclosure.

Needs and Uses: Section 272 of the Telecommunications Act of 1996 requires that Bell Operating Companies (BOCs) make information available to third parties if it makes that information available to its section 272(a) affiliates. In CC Docket No. 96-149, the Commission adopted safeguards to govern BOCs entry into certain new markets. BOCs are required to provide, among other things, unaffiliated entities with all listing information, including unlisted and unpublished numbers as well as the numbers of other local exchange carriers' customers, that the BOC uses to provide E9II services. In a Further Notice of Proposed Rulemaking issued in CC Docket No. 96-149, the Commission proposed that BOCs make certain information disclosures available to unaffiliated entities and that the BOCs submit an annual affidavit.

Federal Communications Commission.
Magalie Roman Salas,
Secretary.

[FR Doc. 01-11766 Filed 5-9-01; 8:45 am]

BILLING CODE 6712-01-P